ENVIRONMENTAL PROTECTION AGENCY

[ER-FRL-6694-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20070385, ERP No. D-FHW-C40173-00, Peace Bridge Expansion Project, Capacity Improvements to the Peace Bridge, Plazas and Connecting Roadways, U.S. Coast Guard Bridge Permit, U.S. Army COE Section 10 and 404 Permits. City of Buffalo, Erie County, NY and Town of Fort Erie, Ontario, Canada. Summary: EPA expressed environmental concerns about air impacts, particularly during the construction phase of the project, as well as impacts to aquatic habitat. EPA also recommends additional cumulative impacts analyses be done. Rating EC2.

EIS No. 20070409, ERP No. D-AFS-J65392-MT, Beartooth Ranger District Travel Management Planning, Proposing to Designate Routes for Public Motorized Use, and Change Management of Pack and Saddle Stock on Certain Trail, Beartooth Ranger District, Custer National Forest, Carbon, Stillwater, Sweet Grass, and Park Counties, MT. Summary: EPA expressed environmental concerns about impacts to water quality, fisheries, wildlife and other resources, and recommended that the preferred alternative include modifications to reduce roads in high hazard areas, avoid adding new roads and road decommissioning to reduce risks to water quality and fisheries. Rating EC2.

EIS No. 20070430, ERP No. D-FHW-E40818-NC, NC-119 Relocation Project, Transportation Improvement from the I-185/40 Interchange Southwest of Mebane to Existing NC-119 south of NC-1918 (Mrs White Lane) Mebane, Right-of-Way Acquisition, Alamance County, NC. Summary: EPA expressed environmental concerns about impacts to streams, a historic property, a water supply area, and possible residential relocations. Rating EC1.

EIS No. 20070451, ERP No. D-AFS-J65395-UT, Indian Springs Road Realignment, Reducing Adverse Impacts to Watershed and Fisheries, U.S. Army COE Section 404 Permit, Uinta National Forest, Heber Ranger District, Wasatch County, UT. Summary: EPA expressed environmental concerns about impacts to the roadless area, and requested that other alternatives that would avoid the roadless area be investigated. If an alternative is not available, EPA requested mitigation to offset impacts to the roadless area. Rating EC2.

EIS No. 20070368, ERP No. DS-BLM-K67052-NV, Newmont Gold Mining, South Operations Area Project Amendment, Updated Information on the Cumulative Effects Analyses, Operation and Expansion, Plan of Operations, Elko and Eureka Counties, NV. Summary: EPA continues to have environmental objections to the project because of its potential significant adverse impacts to water quality and the lack of sufficient measures to ensure against acid rock drainage. We recommend the final SEIS provide additional information regarding mine geochemistry, measures to prevent acid drainage, mitigation for potential impacts to pit lake water quality, water quality monitoring, mercury emissions and controls, and financial assurance. Rating EO2.

EIS No. 20070369, ERP No. DS-BLM-K67056-NV, Leeville Mining Project, Propose to Develop and Operate an Underground Mine and Ancillary Facilities including Dewatering Operation, Updated Information on the Cumulative Effects Analyses, Plan-of-Operations/Right-of-Way Permit and COE Section 404 Permit, Elko and Eureka Counties, NV. Summary: EPA continues to have environmental concerns because of the project's potential significant adverse impacts to water quality and the lack of sufficient measures to ensure against acid rock drainage. We recommend the final SEIS provide additional information regarding mine geochemistry, measures to prevent acid drainage, mercury emissions and controls, and financial assurance. Rating EC2.

Final EISs

EIS No. 20070446, ERP No. F-FHW-F40438-IN, I-69 Evansville to Indianapolis Project, I-69 Tier 2 Section 1: Evansville to Oakland City, from 1-64 to IN-64, Preferred Alternative is 4, Gibson and Warrick Counties, IN. Summary: EPA does not object to the proposed project.

EIS No. 20070448, ERP No. F-USA-A15000-00, PROGRAMMATIC—Army Growth and Force Structure Realignment, Implementation, Nationwide. Summary: EPA does not object to the proposed project.

EIS No. 20070475, ERP No. F-FHW-H40191-KS, ADOPTION—Kansas Highway 10 (commonly known as South Lawrence Trafficway) Relocation, Issuance or Denial of Section 404 Permit Request, Lawrence City, Douglas County, KS. Summary: No formal comment letter was sent to the preparing agency.

Dated: December 18, 2007.
Robert W. Hargrove,
Director, NEPA Compliance Division, Office of Federal Activities.

[FR Doc. E7-24843 Filed 12-20-07; 8:45 am]

BILLING CODE 6560-50-P